DEPARTMENT OF THE INTERIOR

Bureau of Land Management

[BLM_HQ_FRN_MO 4500181783]

Notice of Availability of the Final Programmatic Environmental Impact Statement for Utility-Scale Solar Energy Development and Proposed Resource Management Plan Amendments

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared a Final Programmatic Environmental Impact Statement (EIS) and Proposed Resource Management Plan (RMP) Amendments for Utility-scale Solar Energy Development and by this notice is announcing the start of a 30-day protest period.

DATES: This notice announces the beginning of a 30-day protest period to the BLM on the Proposed RMP Amendments. Protests must be postmarked or electronically submitted on the BLM's ePlanning site within 30 days of the date that the Environmental Protection Agency (EPA) publishes its Notice of Availability (NOA) in the Federal Register. The EPA usually publishes its NOAs on Fridays.

ADDRESSES: The Final Programmatic EIS, Proposed RMP Amendments, and associated documents are available for review on the BLM ePlanning project website at https://eplanning.blm.gov/eplanning-ui/project/2022371/510.

Instructions for filing a protest with the BLM can be found at: https://www.blm.gov/programs/planning-and-nepa/public-participation/filing-a-plan-protest and at 43 CFR 1610.5-2.

All protests must be submitted in writing through one of the following two methods:

• Project website: https://eplanning.blm.gov/eplanning-ui/project/2022371/510.

• Regular Mail and Overnight Delivery: BLM Director, Attention: Protest Coordinator (HQ210), Denver Federal Center, Building 40 (Door W-4), Lakewood, CO 80215.

Emailed protests will not be accepted as valid protests unless the protesting party also provides the original letter by either regular mail or overnight delivery postmarked by the close of the protest period. Under these conditions, the BLM will consider an emailed protest as an advance copy, and it will receive full consideration. If you wish to provide the BLM with such advance notifications, please direct emails to protest@blm.gov.

FOR FURTHER INFORMATION CONTACT: Jeremy Bluma, Senior Advisor, National Renewable Energy Coordination Office, BLM Headquarters, email: solar@blm.gov or telephone: (208) 789-6014. Individuals in the United States who are deaf, deafblind, hard of hearing, or have a speech disability may dial 711 (TTY, TDD, or TeleBraille) to access telecommunications relay services for contacting Mr. Bluma. Individuals outside the United States should use the relay services offered within their country to make international calls to the point of contact in the United States.

SUPPLEMENTARY INFORMATION: The Proposed RMP Amendments would change existing land use plans as described in the Final Programmatic EIS/Proposed RMP Amendments. On January 19, 2024 (89 FR 3687), the BLM published a Draft Programmatic EIS for Utility-Scale Solar Energy Development. Public comments were accepted through April 18, 2024. The public and cooperating agencies provided comments that informed revisions to the Final Programmatic EIS/Proposed RMP Amendments. The Final Programmatic EIS/Proposed RMP Amendments would support an updated planning framework for the BLM's management of utility-scale solar energy development on public lands.

The planning area is located within the States of Arizona, California (excluding the lands covered by the Desert Renewable Energy Conservation Plan in 7 southern California counties), Colorado, Idaho, Montana, Nevada, New Mexico, Oregon, Utah, Washington, and Wyoming (hereinafter referred to as the 11 Western States) and encompasses approximately 162 million acres of public land.

The BLM has assessed the potential environmental, cultural, and economic impacts of modifying its current management of utility-scale solar energy development across the 11 Western States. It is considering the Proposed RMP Amendments to improve its management consistency with respect to utility-scale solar energy development, address changes in solar energy technology that have occurred since the BLM's last solar energy planning effort in 2012 (2012 Western Solar Plan), support national renewable energy and climate goals, and incorporate updated information about important resource values. As the BLM seeks to advance its solar energy program, it does so while managing other important land uses. These include recreational use; agricultural use, such as grazing; other energy and mineral development; resource protection, including National Monuments and National Conservation Areas, wilderness areas and wilderness study areas, other specially designated areas, wildlife and big game, water resources, and cultural, historical, and paleontological resources; and the restoration of lands and resources, in all cases where appropriate and consistent with the principles of multiple use and sustained yield, as defined by FLPMA.

Purpose and Need

The purpose of the proposed action is to improve initial siting of utility-scale photovoltaic (PV) solar energy development proposals by identifying “solar application areas,” which are broad areas of BLM-administered lands where proposals for solar energy projects are anticipated to encounter fewer resource conflicts compared to areas unsuitable for solar development due to significant resource conflicts. There is a need to improve the solar development application process by providing development opportunities in specified solar application areas while maintaining sufficient flexibility to account for site-specific resource considerations on a case-by-case basis during consideration of specific project applications and associated NEPA analysis.

This programmatic effort evaluates potential updates that respond to key changes since the BLM issued the 2012 Western Solar Plan. First, there has been an increase in utility-scale solar energy development, both on and off public lands, driven by the urgent need to replace fossil fuel energy sources with renewable energy sources in order to reduce the impacts of climate change. Second, advancements in technology and economic factors have shifted the focus to the use of PV technology. Third, the BLM is seeing increasing interest (represented through applications for PV solar energy development) on public lands in the 5 northern states not covered by the 2012 Western Solar Plan (Idaho, Montana, Oregon, Washington, and Wyoming).

In response, the BLM needs to update its planning framework for public lands to help guide responsible solar energy development. This includes amending land use plans in the 11 Western States to exclude solar energy development in areas that need protection. The amendments would also update design features and environmental evaluation processes and incorporate new information and analysis.

Alternatives Evaluated and the Proposed Plan

The BLM analyzed 6 alternatives in detail, including the no action alternative. The BLM evaluated making varying amounts of public lands available for solar energy project applications. The BLM also considered 7 additional alternatives but did not include those alternatives for detailed analysis for the reasons discussed in the Final Programmatic EIS.

The BLM developed the Proposed RMP based on public comment and cooperating agency feedback on the Draft Programmatic EIS. The Proposed RMP, which is a blend of elements from the range of alternatives analyzed in the Draft Programmatic EIS, describes the BLM's proposed approach for implementing utility-scale PV solar energy development on BLM-administered land. The Proposed RMP would exclude approximately 131 million acres of public lands from solar applications to protect sensitive resources as described in the exclusion criteria in the Final Programmatic EIS. Approximately 31 million acres of public lands would be available for solar applications under the Proposed RMP. Public lands would be available if, after accounting for the resource-based exclusions and the exclusion for slopes exceeding 10 percent, they are within 15 miles of an existing or planned transmission line with capacity of at least 69 kilovolts, or they are identified as “previously disturbed” based on criteria described in the Final Programmatic EIS. The Proposed RMP would improve the solar energy project application process by excluding project applications from areas where protection is warranted and providing development siting opportunities in solar application areas while maintaining sufficient siting flexibility to account for site-specific resource considerations on a case-by-case basis under subsequent project-specific decisions.

Mitigation

Mitigation in the Final Programmatic EIS generally involves avoidance and minimization strategies. Avoidance is achieved by excluding specific public lands from solar energy development applications, based on the likelihood that projects in those locations would cause unacceptable resource impacts. Minimization is accomplished by requiring that various programmatic design features be incorporated into solar project proposals. At the project review stage, the BLM may determine that additional mitigation—such as further avoidance, minimization, and compensation—is required.

Schedule for the Decision-Making Process

The Record of Decision and Approved RMP Amendments are anticipated to be finalized in December 2024.

The BLM will continue to consult with Indian Tribal Nations on a government-to-government basis in accordance with Executive Order 13175, BLM MS 1780, and other Departmental policies. Tribal concerns, including impacts on Indian trust assets and potential impacts to cultural resources, will be given due consideration. Consultation will continue on an individual basis with interested Tribes.

Protest of the Proposed RMP Amendments

BLM planning regulations state that any person who participated in the preparation of the RMP and has an interest that will or might be adversely affected by approval of the Proposed RMP Amendments may protest its approval to the BLM. Protest on the Proposed RMP Amendments constitutes the final opportunity for administrative review of the proposed land use planning decisions prior to the BLM approving RMP Amendments. Instructions for filing a protest with the BLM regarding the Proposed RMP Amendments may be found online (see ADDRESSES). All protests must be in writing and mailed to the appropriate address or submitted electronically through the BLM ePlanning project website (see ADDRESSES). Protests submitted electronically by any means other than the ePlanning project website will be invalid unless a hard copy of the protest is also submitted. The BLM will render a written decision on each protest. The protest decision of the BLM shall be the final decision of the Department of the Interior. Responses to valid protest issues will be compiled and documented in a Protest Resolution Report made available following the protest resolution online at: https://www.blm.gov/programs/planning-and-nepa/public-participation/protest-resolution-reports. Upon resolution of protests, the BLM will issue a Record of Decision and Approved RMP Amendments.

Before including your address, phone number, email address, or other personal identifying information in your protest, you should be aware that your entire protest—including your personal identifying information—may be made publicly available at any time. While you may ask us in your protest to withhold your personal identifying information from public review, we cannot guarantee that we will be able to do so.

(Authority: 40 CFR 1501.9; 40 CFR 1506.9; 43 CFR 1610.2; 43 CFR 1610.5)

David Rosenkrance,
Assistant Director, Energy, Minerals, and Realty Management.

[FR Doc. 2024-19478 Filed 8-29-24; 8:45 am]

BILLING CODE 4331-29-P